DEPARTMENT OF HEALTH AND HUMAN SERVICES

Centers for Disease Control and Prevention

Immediate Relief To Decrease Unsafe Injections in Selected Countries in Africa and the Caribbean Under the President's Emergency Plan for AIDS Relief

Announcement Type: New.

Funding Opportunity Number: 04212.

Catalog of Federal Domestic Assistance Number: 93.943.

Key Dates:

Application Deadline: August 13, 2004.

Executive Summary: President Bush's Emergency Plan for AIDS Relief has called for immediate action to turn the tide of HIV/AIDS in Africa and the Caribbean. An important aspect of the President's bold vision is to prevent at least seven million HIV infections. This funding opportunity responds to the President's call for rapid, accountable, and sustainable action. An important aspect of the President's Emergency Plan for AIDS Relief (PEPFAR) is the providing of assistance to ensure the elimination of unsafe medical injections and other related unsafe medical practices, including occupational exposure to blood. The focus of this announcement is seven countries in Africa and the Caribbean heavily affected by HIV/AIDS: Botswana, Côte d'Ivoire, Haiti, Kenya, Rwanda, South Africa, and Tanzania.

Transmission of HIV and hepatitis in the health care setting can occur through unsafe injections and other unsafe medical practices, including occupational exposure to blood. The persons most at risk of infection through unsafe injections are the injection recipients, health care workers through contaminated needles and syringes, and the wider community through exposure to contaminated sharps waste.

Estimates of the global burden of disease from unsafe injections suggests that, in the year 2000, unsafe injections around the world accounted for five percent of HIV infections, 32 percent of hepatitis B virus infections, 40 percent of hepatitis C virus infections, 28 percent of liver cancers, and 24 percent of cirrhosis cases (World Health Organization (WHO), 2003). While such estimates have limitations, the data suggests that injection overuse and unsafe injection practices contribute towards contaminated, and often unnecessary, injections in the formal and informal health sector, and therefore constituting a significant mode of transmission for HIV and hepatitis. Concern about the negative outcomes of unsafe injections, including transmission of blood-borne pathogens, abscess formation, etc., has focused attention on scaling up interventions to stop the inappropriate and unsafe use of injection equipment.

This announcement provides funding to implement a National Injection Safety Plan in each of the seven countries, and expects demonstrable, measurable results within the first year of the award. An additional intent is to develop sustained indigenous capacity to continue these programs after the project ends.

Measurable outcomes of this program will be in alignment with the following performance goal for President Bush's Emergency Plan for AIDS Relief (PEPFAR): Prevent seven million HIV infections in 15 focus countries heavily afflicted by AIDS.

This initiative is a coordinated effort led by the Office of the Global AIDS Coordinator at the Department of State and involves various U.S. Federal Government agencies including the Department of State, Department of Health and Human Services (HHS), Department of Defense, the U.S. Agency for International Development, and the Peace Corps.

I. Funding Opportunity Description

Authority: This program is authorized under Sections 301(a) and 307 of the Public Health Service Act [42 U.S.C. Sections 241 (a) and 242l], as amended, and under Public Law 108-25 (United States Leadership Against HIV/AIDS, Tuberculosis and Malaria Act of 2003) [22 U.S.C. 7601].

Purpose: This announcement is intended to fund the rapid implementation of a safe-injection program that covers the entire population of each country, using each country's National Injection Safety Plan. The focus of this announcement is seven countries in Africa and the Caribbean heavily affected by HIV/AIDS: Botswana, Côte d'Ivoire, Haiti, Kenya, Rwanda, South Africa, and Tanzania. We expect demonstrable, measurable results within the first year of the President's Emergency Plan for AIDS Relief (PEPFAR). The implementation of these National Injection Safety Plans includes management, operations, and monitoring activities. The awardee will work to coordinate activities with the U.S. Government Mission, the Ministry of Health (MOH), and non-governmental organizations (NGOs), as appropriate, in each country.

All applicants should propose and budget for activities in all seven countries. The final determination of country assignment and funding will be determined at the time of award.

This funding announcement is intended to build on work recently performed during the initial rapid implementation of safe-injection activities under PEPFAR. The principal tasks of that rapid implementation phase were as follows:

1. Perform an initial assessment of the current injection practices within each country.

2. Develop a National Injection Safety Plan for the safe and appropriate use of injections.

3. Design and field-test a project to enhance injection safety in selected area(s) of each country that would address improving provider skills, improve procurement and management of safe injection equipment and supplies, increase managers' awareness and skills, and advocate for reducing demand for injections and knowledge about injection safety among the general public.

4. Develop and implement an advocacy strategy for wider public understanding and support for the development of the National Injection Safety Plan.

Measurable outcomes of the program will be in alignment with the priorities of PEPFAR, a five-year initiative to turn the tide in combating the global HIV/AIDS pandemic. The PEPFAR is intended to address the goal of preventing seven million new infections (60 percent of the projected new infections in the target countries). By addressing injection safety, PEPFAR can help to reduce the spread of HIV and other infectious diseases and reduce the fear of infection among health care workers, thereby lessening stigma among health care workers and discrimination against people living with HIV/AIDS.

Activities: Awardee activities for this program are as follows: Using each country's National Injection Safety Plan to be provided by HHS/CDC, the awardee(s) will expand the piloted activities to implement an injection-safety program that covers the total population of each country. The awardee will implement a program that aims to improve injection practices through the following components: (a) Training, support, and capacity-building of health care providers, as well as program and facility managers; (b) improving logistics supply and distribution systems that ensure availability of safe injection equipment; (c) reducing the frequency of unnecessary injections through advocacy and behavior change; and (d) management of sharps waste.

1. Training, Support, and Capacity

• Train and educate health care workers in safer medical practices, including safe injection practices, universal precautions, selection of appropriate waste-management options, and decreasing unnecessary medications, particularly injections.

• Develop and/or update institutional service-delivery policies, standards, guidelines, job descriptions, monitoring tools, etc., to reflect management practices in safe injections and in the waste management of sharps waste (in accordance with national or international standards).

• Assist and train health care workers and logisticians in safe-injection commodity forecasting, financing, procurement, logistics, and supply management to ensure that both sterile, single-use injection devices for injection and reconstitution and safety boxes are available in health care facilities in sufficient quantities for the number of injections administered.

• Advise and assist program managers and facility administrators to direct, supervise and monitor activities to improve injection safety within their areas.

• Develop a mechanism to review progress and lessons learned between the National Injection Safety Plan group and personnel from the pilot project.

2. Equipment, Supplies, and Commodity Management

• Procure appropriate commodities for safe injection practices and ensure that all health care facilities have sufficient quantities of all commodities, including single-use injection equipment, gloves, diluent, soap, and safety boxes, preferably using existing distribution systems, when appropriate.

• Develop and strengthen existing systems for reliable commodity management, including selection, forecasting, procurement, and distribution, of injection equipment matched with needs for injectable medications and safety boxes in sufficient quantities for the number of injections administered.

• Ensure “bundling” of injectable vaccines, injectable contraceptives, and tuberculosis medicines in donor-supported programs with single-use needles and syringes that include reuse-prevention features and safety boxes.

• To decrease unnecessary injections, ensure oral formulations of commonly used medications are available at the health facilities. This might require revision of the essential drug list.

• Ensure inclusion of injection equipment on essential drug lists on a facility and/or national level.

3. Reducing Unnecessary Injections Through Advocacy and Behavior Change

• Using each country's National Injection Safety Plan, the awardee(s) will attempt to increase public support for injection safety among the main target audiences, which include: program managers, health facility administrators, professional associations, health workers, pharmacies, training institutions including medical schools, and the general public.

• The awardee will work with non-governmental organizations NGOs to integrate community-based activities to decrease the use of unsafe injections and increase knowledge of injection safety.

4. Sharps Waste Management

• Develop and strengthen systems to support proper disposal of sharps at the level of this intervention. (The awardee would not directly support capital costs for waste management. The awardee's role would be limited to technical assistance in assessment, planning and leveraging support from other external agencies for items such as incinerators.) This should be done in accordance with national policies for safe management of health care waste, if such a policy exists. If such a policy does not exist, these activities should be done in accordance with international standards (http://www.injectionsafety.org and the SIGN Injection Safety Toolkit).

• Forecast and provide sufficient quantities of puncture-proof sharps containers (e.g. safety boxes) and related materials, such as kerosene, matches for burning, etc., to meet the disposal needs of injection equipment across the curative, immunization, and contraceptive sectors within the institution. In a cooperative agreement, HHS/CDC staff is substantially involved in the program activities, above and beyond routine grant monitoring. HHS/CDC will work under the guidance and supervision of the Office of the Global AIDS Coordinator at the Department of State.

HHS/CDC activities for this program are as follows:

• Provide scientific and technical assistance in refining the operational plan.

• Provide ongoing technical assistance in addressing problems encountered in implementing your plan.

• Assist in assessing program operations and in evaluating overall effectiveness of your program.

• Staff in both headquarters (HHS/CDC Atlanta, HHS/CDC in country, and the HHS Office of Global Health Affairs in Washington) and in the designated countries will assure that other related U.S. Government (USG) activities are well coordinated with national programs in each country.

II. Award Information

Type of Award: Cooperative Agreement. HHS/CDC involvement in this program is listed in the Activities Section above.

Fiscal Year Funds: FY 2004.

Approximate Total Funding: $7,000,000.

Approximate Number of Awards: Two.

Approximate Average Award: $3,500,000 (This amount is for the first 12-month budget period, and includes direct costs).

Floor of Award Range: None.

Ceiling of Award Range: $7,000,000.

Anticipated Award Date: September 1, 2004.

Budget Period Length: 12 months.

Project Period Length: Five years.

Throughout the project period, HHS/CDC's commitment to continuation of awards will be conditioned on the availability of funds, evidence of satisfactory progress by the recipient (as documented in required reports), and the determination that continued funding is in the best interest of the Federal Government.

III. Eligibility Information

III.1. Eligible Applicants

Applications may be submitted by public and private non-profit and for-profit organizations may submit applications, such as:

• Public non-profit organizations;

• Private non-profit organizations;

• For-profit organizations;

• Universities; and

• Faith-based organizations.

III.2. Cost Sharing or Matching

Matching funds are not required for this program.

III.3. Other

If you request a funding amount greater than the ceiling of the award range, your application will be considered non-responsive and will not be entered into the review process. You will be notified that your application did not meet the submission requirements.

If your application is incomplete or non-responsive to the requirements listed in this section, it will not be entered into the review process. You will be notified that your application did not meet submission requirements.

Note: Title 2 of the United States Code Section 1611 states that an organization described in Section 501(c)(4) of the Internal Revenue Code that engages in lobbying activities is not eligible to receive Federal funds constituting an award, grant, or loan.

IV. Application and Submission Information

IV.1. Address To Request Application Package

To apply for this funding opportunity use application form PHS 5161. Application forms and instructions are available on the HHS/CDC Web site, at the following Internet address: http://www.cdc.gov/od/pgo/forminfo.htm.

If you do not have access to the Internet, or if you have difficulty accessing the forms on-line, you may contact the HHS/CDC Procurement and Grants Office Technical Information Management Section (PGO-TIM) staff at: 770-488-2700. Application forms can be mailed to you.

IV.2. Content and Form of Submission

Application: You must include a project narrative with your application forms. You must submit a narrative in the following format:

• Maximum number of pages: 30 (Note: Appendices and budget narrative are not included in the page total). If your narrative exceeds the page limit, only the first pages, which are within the page limit, will be reviewed.

• Font size: 12-point unreduced

• Double-spaced

• Paper size: 8.5 by 11 inches

• Page margin size: One inch

• Printed only on one side of page

• Held together only by rubber bands or metal clips; not bound in any other way.

Your narrative proposal should address activities to be conducted over the entire project period. Proposals should detail the implementation of the methodologies put forward in the program description, showing the phasing or dates by which planned activities would be carried out. The implementation plan shall include the following:

• Description of the need for National Injection Safety Plans in the seven countries and the anticipated outcome on HIV prevention.

• Description of the rationale and technical approach for expanding the use of proven best practices in injection safety in the following countries: Botswana, Côte d'Ivoire, Haiti, Kenya, Rwanda, South Africa, and Tanzania.

• Description of all planned activities in the first 12 months, including:

a. Sequence of tasks and location for intervention.

b. Timeframes for implementing each activity.

c. Involvement of alliances/partners/twinning.

d. Procurement and distribution plan, including estimated equipment needs and plans for use of existing country mechanisms.

e. Sustainability plan.

• Management Plan

a. Proposed lines of responsibility, authority, and communication through which tasks will be managed.

b. Procedure to ensure quality control and cost control.

• Organizational Structure and Staffing Plan, including:

a. Key personnel plan.

b. Other long and short-term staff required for implementing each activity.

c. Demonstrated capabilities, specific local experiences, education, and qualifications for each member of the key personnel plan.

d. List of alternates for key personnel plan.

e. Subcontractor staffing plans.

f. Plan for proposed project team to interface with the applicant's corporate structure, possible sub-contractors, and HHS/CDC's management structure.

• Monitoring and Evaluation Plan, showing how:

a. Outcomes will be measured.

b. Outcomes will contribute to results.

• The applicants shall provide information regarding their past experience in working with other organizations on similar types of projects.

Applicants may include additional information in the application appendices. The appendices will not be counted toward the narrative page limit. This additional information includes the following:

• Curriculum Vitas or Resumes;

• Organizational Charts; and

• Letters of Support, etc.

You are required to have a Dun and Bradstreet Data Universal Numbering System (DUNS) number to apply for a grant or cooperative agreement from the Federal government. The DUNS number is a nine-digit identification number, which uniquely identifies business entities. Obtaining a DUNS number is easy and there is no charge. To obtain a DUNS number, access www.dunandbradstreet.com or call 1-866-705-5711.

For more information, see the HHS/CDC Web site at: http://www.cdc.gov/od/pgo/funding/pubcommt.htm.

If your application form does not have a DUNS number field, please write your DUNS number at the top of the first page of your application, and/or include your DUNS number in your application cover letter.

Additional requirements that may require you to submit additional documentation with your application are listed in section “VI.2. Administrative and National Policy Requirements.”

IV.3. Submission Dates and Times

Application Deadline Date: August 13, 2004.

Explanation of Deadlines: Applications must be received in the HHS/CDC Procurement and Grants Office by 4 p.m. eastern time on the deadline date. If you send your application by the United States Postal Service or commercial delivery service, you must ensure that the carrier will be able to guarantee delivery of the application by the closing date and time. If HHS/CDC receives your application after closing because of: (1) Carrier error, when the carrier accepted the package with a guarantee for delivery by the closing date and time, or (2) significant weather delays or natural disasters, you will be given the opportunity to submit documentation of the carrier's guarantee. If the documentation verifies a carrier problem, HHS/CDC will consider the application as having been received by the deadline.

This announcement is the definitive guide on application submission address and deadline. It supersedes information provided in the application instructions. If your application does not meet the deadline above, it will not be eligible for review, and will be discarded. You will be notified that your application did not meet the submission requirements.

HHS/CDC will not notify you upon receipt of your application. If you have a question about the receipt of your application, first contact your courier. If you still have a question, contact the PGO-TIM staff at: 770-488-2700. Before calling, please wait two to three days after the application deadline. This will allow time for applications to be processed and logged.

IV.4. Intergovernmental Review of Applications

Executive Order 12372 does not apply to this program.

IV.5. Funding Restrictions

Restrictions, which must be taken into account while writing your budget, are as follows:

• Funds may be used only for activities associated with decreasing unsafe injections.

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization, Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit of these HHS/CDC funds (program-specific audit) by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• U.S. Government funds may be used for direct costs such as salaries; necessary travel; operating costs, including supplies, fuel, utilities, etc.; staff training costs, including registration fees and purchase and rental of training related equipment; and purchase of HIV-testing reagents, test kits, and laboratory equipment for HIV testing.

• No funds appropriated under this solicitation shall be used to carry out any program of distributing sterile needles or syringes for the hypodermic use of any illegal drug.

• In accordance with 45 CFR Part 74.81, no HHS funds may be paid as profit to any recipient, even if the recipient is a commercial organization. Profit is any amount in excess of allowable direct and indirect costs.

The U.S. Government is opposed to prostitution and related activities, which are inherently harmful and dehumanizing, and contribute to the phenomenon of trafficking in persons. Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides. A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any foreign recipient must have a policy explicitly opposing, in its activities outside the United States, prostitution and sex trafficking, except that this requirement shall not apply to the Global Fund to Fight AIDS, Tuberculosis and Malaria, the World Health Organization, the International AIDS Vaccine Initiative or to any United Nations agency, if such entity is a recipient of U.S. Government funds in connection with this document.

The following definitions apply for purposes of this clause:

• “Sex trafficking” means the recruitment, harboring, transportation, provision, or obtaining of a person for the purpose of a commercial sex act. 22 U.S.C. 7102(9).

• A “foreign recipient” includes an entity that is not organized under the laws of any State of the United States, the District of Columbia, or the Commonwealth of Puerto Rico. Restoration of the Mexico City Policy, 66 FR 17303, 17303 (March 28, 2001).

All recipients must insert provisions implementing the applicable parts of this section, “Prostitution and Related Activities,” in all subagreements under this award. These provisions must be express terms and conditions of the subagreement, acknowledge that each certification to compliance with this section, “Prostitution and Related Activities,” are a prerequisite to receipt of U.S. government funds in connection with this document, and must acknowledge that any violation of the provisions shall be grounds for unilateral termination of the agreement prior to the end of its term. In addition, all recipients must ensure, through contract, certification, audit, and/or any other necessary means, all the applicable requirements in this section, “Prostitution and Related Activities,” are met by any other entities receiving U.S. government funds from the recipient in connection with this document, including without limitation, the recipients' sub-grantees, sub-contractors, parents, subsidiaries, and affiliates. Recipients must agree that HHS may, at any reasonable time, inspect the documents and materials maintained or prepared by the recipient in the usual course of its operations that relate to the organization's compliance with this section, “Prostitution and Related Activities.”

All primary grantees that receive U.S. Government funds in connection with this document must certify compliance prior to actual receipt of such funds in a written statement referencing this document (e.g., “[Recipient's name] certifies compliance with the section, ‘Prostitution and Related Activities.’ ”) addressed to the agency's grants officer. Such certifications are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event it is determined by HHS that the recipient has not complied with this section, “Prostitution and Related Activities.”

Guidance for completing your budget can be found on the HHS/CDC Web site, at the following Internet address: http://www.cdc.gov/od/pgo/funding/budgetguide.htm.

Applicants should budget for activities in all seven countries. The final determination of funding and country assignment will be determined at the time of award.

IV.6. Other Submission Requirements

Application Submission Address: Submit the original and two hard copies of your application by mail or express delivery service to: Technical Information Management-PA# 04212, CDC Procurement and Grants Office, 2920 Brandywine Road, Atlanta, GA 30341.

Applications may not be submitted electronically at this time.

V. Application Review Information

V.1. Criteria

You are required to provide measures of effectiveness that will demonstrate the accomplishment of the various identified objectives of the cooperative agreement. Measures of effectiveness must relate to the performance goals stated in the “Purpose” section of this announcement. Measures must be objective and quantitative, and must measure the intended outcome. These measures of effectiveness must be submitted with the application and will be an element of evaluation.

Your application will be evaluated against the following criteria:

1. Current Capability (Total: 45 Points)

a. Experience in the area of safe injections (15 points)—Does the applicant and each of its partnering organizations have experience working in the area of medical injection safety in developing countries?

b. Experience in the area of infection-control practices (15 points)—Does the applicant and each of its partnering organizations have experience working in the area of infection control practices in developing countries?

c. Staffing and management (15 points)—Is the size of the organization adequate for the project? Is the current staffing and management capacity of the applicant adequate for the project?

2. Feasibility of Plan (Total: 40 Points)

a. Technical approach (6 points)—Is the technical approach sound and reasonable?

b. Staffing and management (8 points)—Is the proposed staffing and management plan reasonable?

c. Equipment and supplies management and distribution (8 points)—Does the applicant have a sound and reasonable plan for managing and distributing safe injectable materials and supplies?

d. Training (6 points)—Does the applicant have the resources and a reasonable plan to develop a comprehensive training program in the reduction of unsafe medical injections and in infection control practices?

e. Monitoring and evaluation (6 points)—Is the monitoring and evaluation plan feasible? Does the plan measure important indicators?

f. Sustainability (6 points)—Is the plan for sustainability reasonable and feasible?

3. Measures of Effectiveness (Total: 10 Points)

Are the measures of effectiveness reasonable?

4. Plans for Collaboration (Total: 5 Points)

Is there a plan or strategy for effectively collaborating with the Ministries of Health and local health-care providers?

V.2. Review and Selection Process

The Procurement and Grants Office (PGO) staff will review your application for completeness, and the HHS/CDC National Center for HIV, STD and TB Prevention (NCHSTP) will review it for responsiveness. Incomplete applications and applications that are non-responsive to the eligibility criteria will not advance through the review process. Applicants will be notified that their application did not meet submission requirements.

An objective review panel will evaluate complete and responsive applications according to the criteria listed in the “V.1. Criteria” section above.

In addition, the following factors may affect the funding decision:

• Geographic distribution and population of all seven countries—to ensure that funding is not concentrated in any one catchment area.

• Percentage of staff who are citizens of the country in which services will be provided.

• No award will be made without the concurrence of the U.S. Embassy and the CDC representative in the country under consideration.

V.3. Anticipated Announcement and Award Dates

September 1, 2004.

VI. Award Administration Information

VI.1. Award Notices

Successful applicants will receive a Notice of Grant Award (NGA) from the HHS/CDC Procurement and Grants Office. The NGA shall be the only binding, authorizing document between the recipient and HHS/CDC. The NGA will be signed by an authorized Grants Management Officer, and mailed to the recipient fiscal officer identified in the application.

Unsuccessful applicants will receive notification of the results of the application review by mail.

VI.2. Administrative and National Policy Requirements

45 CFR Part 74 and Part 92

For more information on the Code of Federal Regulations, see the National Archives and Records Administration at the following Internet address: http://www.access.gpo.gov/nara/cfr/cfr-table-search.html.

The following additional requirements apply to this project:

• AR-4 HIV/AIDS Confidentiality Provisions

• AR-5 HIV Program Review Panel Requirements

• AR-6 Patient Care

• AR-9 Paperwork Reduction Act Requirements

• AR-10 Smoke-Free Workplace Requirements

• AR-12 Lobbying Restrictions

• AR-15 Proof of Non-Profit Status

• AR-16 Security Clearance Requirement

• AR-23 States and Faith-Based Organizations

Additional information on these requirements can be found on the HHS/CDC Web site at the following Internet address: http://www.cdc.gov/od/pgo/funding/ARs.htm.

VI.3. Reporting Requirements

You must provide HHS/CDC with an original, plus two copies of the following reports:

1. Interim progress report, no less than 90 days before the end of the budget period. The progress report will serve as your non-competing continuation application, and must contain the following elements:

a. Current Budget Period Activities Objectives.

b. Current Budget Period Financial Progress.

c. New Budget Period Program Proposed Activity Objectives.

d. Detailed Line-Item Budget and Justification.

e. Additional Requested Information.

f. Measures of Effectiveness.

2. Semi-annual progress report, due seven months after the beginning of each budget period. This report should contain the following elements:

a. Progress on Achieving Objectives.

b. Modification or New Activities.

3. Financial status report, no more than 90 days after the end of the budget period.

4. Final financial and performance reports, no more than 90 days after the end of the project period.

These reports must be sent to the Grants Management Specialist listed in the “Agency Contacts” section of this announcement.

VII. Agency Contacts

For general questions about this announcement, contact:

Technical Information Management Section, HHS/CDC Procurement and Grants Office, Centers for Disease Control and Prevention, U.S. Department of Health and Human Services, 2920 Brandywine Road, Atlanta, GA 30341, Telephone: 770-488-2700.

For program technical assistance, contact:

Kenneth Clark, M.D., MPH, Project Officer, National Center for HIV, STD, and TB Prevention, Centers for Disease Control and Prevention, U.S. Department of Health and Human Services, 1600 Clifton Road, NE, MS E04, Atlanta, GA 30333, Telephone: 404-639-8057, E-mail: kjc4@cdc.gov.

For budget assistance, contact:

Diane Flournoy, Contract Specialist, HHS/CDC Procurement and Grants Office, U.S. Department of Health and Human Services, 2920 Brandywine Road, Atlanta, GA 30341, Telephone: 770-488-2072, E-mail: dmf6@cdc.gov.

Dated: July 8, 2004.
William P. Nichols,
Acting Director, Procurement and Grants Office, Centers for Disease Control and Prevention, U.S. Department of Health and Human Services.

[FR Doc. 04-15913 Filed 7-13-04; 8:45 am]

BILLING CODE 4163-18-P